DEPARTMENT OF COMMERCE

International Trade Administration

[C-533-807]

Notice of Correction to Final Results of Expedited Sunset Review: Sulfanilic Acid From India

AGENCY: Import Administration, International Trade Administration, Department of Commerce.

SUMMARY: On February 8, 2000, the Department of Commerce (the Department) published in the Federal Register the final results of the sunset review of the countervailing duty order on sulfanilic acid from India.¹ Subsequent to the publication of the final results, we identified an inadvertent error in the “Final Results of Review” section of the notice. Therefore, we are correcting and clarifying this inadvertent error.

¹ See Notice of Final Results of Expedited Sunset Review: Sulfanilic Acid from India, 65 FR 6171 (February 8, 2000).

The Department published a net subsidy rate, for all manufacturers/producers/exporters of sulfanilic acid from India, of 47.31 percent.² This rate was a typographical error. The net subsidy rate applicable to all manufacturers/producers/exporters of sulfanilic acid from India is 43.71 percent.

² See Notice of Final Results of Expedited Sunset Review: Sulfanilic Acid from India, 65 FR 6171, 6174 (February 8, 2000).

EFFECTIVE DATE: February 8, 2000.

FOR FURTHER INFORMATION CONTACT: Mark D. Young, Office of Policy for Import Administration, International Trade Administration, U.S. Department of Commerce, 14th Street & Constitution Avenue, NW, Washington, D.C. 20230: telephone (202) 482-1930.

This correction is issued and published in accordance with sections 751(h) and 777(i) of the Act.

Dated: March 31, 2000.
Robert S. LaRussa,
Assistant Secretary for Import Administration.

[FR Doc. 00-8564 Filed 4-5-00; 8:45 am]

BILLING CODE 3510-DS-P